DEPARTMENT OF HEALTH AND HUMAN SERVICES

Centers for Disease Control and Prevention

Disease, Disability, and Injury Prevention and Control Special Emphasis Panels (SEP): Studies to Understand Transmissibility of Influenza Viruses in Mammalian Species, Request for Applications (RFA) CI06-004; Replication of Pathogenic Avian Influenza Viruses in Swine, RFA CI06-005

In accordance with Section 10(a)(2) of the Federal Advisory Committee Act (Pub. L. 92-463), the Centers for Disease Control and Prevention (CDC) announces the following meeting:

Name: Disease, Disability, and Injury Prevention and Control Special Emphasis Panel (SEP): Studies to Understand Transmissibility of Influenza Viruses in Mammalian Species, RFA CI06-004; Replication of Pathogenic Avian Influenza Viruses in Swine, RFA CI06-005.

Time and Date: 12 p.m.-4 p.m., May 1, 2006 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Studies to Understand Transmissibility of Influenza Viruses in Mammalian Species, RFA CI06-004; Replication of Pathogenic Avian Influenza Viruses in Swine, RFA CI06-005.

For Further Information Contact: M. Chris Langub, Ph.D., Scientific Review Administrator, Centers for Disease Control, 1600 Clifton Road, NE, Mailstop E-74, Atlanta, GA 30333, Telephone Number 404.498.2531.

The Director, Management Analysis and Services Office, has been delegated the authority to sign Federal Register notices pertaining to announcements of meetings and other committee management activities, for both CDC and the Agency for Toxic Substances and Disease Registry.

Dated: March 9, 2006.
Alvin Hall,
Director, Management Analysis and Services Office, Centers for Disease Control and Prevention.

[FR Doc. E6-3722 Filed 3-14-06; 8:45 am]

BILLING CODE 4163-18-P